DEPARTMENT OF THE INTERIOR

National Park Service

National Register of Historic Places; Notification of Pending Nominations and Related Actions

Nominations for the following properties being considered for listing or related actions in the National Register were received by the National Park Service before May 12, 2007. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW, 8th floor, Washington DC 20005; or by fax, 202-371-6447. Written or faxed comments should be submitted by June 13, 2007.

J. Paul Loether,
Chief, National Register of Historic Places/National Historic Landmarks Program.

CONNECTICUT

Fairfield County

Sanford—Curtis—Thurber House, 71 Riverside Rd., Newtown, 07000557

Middlesex County

Old Saybrook Town Hall and Theater, 300 Main St., Old Saybrook, 07000558

INDIANA

Blackford County

Montpelier Carnegie Library, 301 S. Main St., Montpelier, 07000560

Carroll County

ackson Township School Gymnasium, 205 E. Cumberland St., Camden, 07000564

Fulton County

Woodstock Country Club, 1301 W. 38th St., Indianapolis, 07000561

Lake County

Van Buren Terrace Historic District, P>336-354 Van Buren St., Gary, 07000565

Wolf, George John, House, 7220 Forest Ave., Hammond, 07000563

Madison County

Central Avenue School, (Indiana's Public Common and High Schools MPS) 2120 Central Ave., Anderson, 07000562

IOWA

Jefferson County

Evergreen Ridge Stock Farm Historic District, 2224 IA S, Fairfield, 07000559

MARYLAND

Carroll County

Slagle—Byers House (CARR-821), 1624 Littlestown Pike, Westminster, 07000566

Howard County

Cherry Grobe, HO-1, 2937 Jennings Chapel Rd., Woodbine, 07000567

MICHIGAN

Berrien County

Niles Downtown Historic District, Sycamore, Main and Cedar bet. Front and 5th, Niles, 07000568

MISSOURI

Cape Girardeau County

Bainbridge Ferry, (Cherokee Trail of Tears MPS) Cty Rd. 630, Cape Girardeau, 07000573

Bainridge Ferry Rd., (Cherokee Trail of Tears MPS) Cty Rd. 623, Cape Girardeau, 07000577

Byrd, Abraham, House, 2832 Ct. Rd. 442, Jackson, 07000572 Green's Ferry, (Cherokee Trail of Tears MPS) Address Restricted, Cape Girardeau, 07000571

Crawford County

Brickey, Peter, House, (Cherokee Trail of Tears MPS) Cty Rd. 703, Steelville, 07000575

Snelson—Brinker House, (Cherokee Trail of Tears MPS) MO 8, Steelville, 07000576

Perry County

Eggers and Company General Store, 19 PCR 32B, Farrar, 07000570

Ralls County

Greenlawn Methodist Church and Cemetery, Jct of MO J and Cty Rd. D, Perry, 07000569

Ripley County

Indian Ford, (Cherokee Trail of Tears MPS) Address Restricted, Doniphan, 07000574

MONTANA

Yellowstone County

Ruth, Harold and Marion, House, 111 Emerald Dr., Billings, 07000578

OHIO

Athens County

Hocking Valley Coal Company Town Historic District, (Little Cities of Black Diamonds—Athens, Hocking, Perry Counties MPS) Jackson Dr. and Arbor Dr., The Plaines, 07000579

Cuyahoga County

Forest Hill Realty Sales Office, 2419 Lee Blvd., Cleveland Heights, 07000580

Franklin County

Stevenson, Joshua, House, 5105 Bowen Rd., Canal Winchester, 07000581

Huron County

Norwalk Memorial Hospital, 269 W. Main St., Norwalk, 07000582

PENNSYLVANIA

Bucks County

Wrightstown Octagonal Schoolhouse, 2091 Second Street Pike, Wrightstown, 07000586

PUERTO RICO

San Juan Municipality Acueducto de San Juan, Flamboyant St., San Juan, 07000585

Utuado Municipality Bateyes de Vivi, (Ball Court/Plaza Sites of Puerto Rico and the U.S. Virgin Islands MPS) Address Restricted, Utuado, 07000584

Vega Baja Municipality Paso del Indio Site, Address Restricted, Vega Baja, 07000583

RHODE ISLAND

Providence County

rovidence Gas Company Purifier House, 200 Allens Ave., Providence, 07000589

SOUTH DAKOTA

Jackson County

Pearl Hotel, South Main, Kadoka, 07000587

WISCONSIN

Barron County

Chicago, St. Paul, Minneapolis and Omaha Railroad Passsenger Station, 426 Tainter Ave., Rice Lake, 07000588

A request for removal has been made for the following resource:

IOWA

Ida County

Turner Hall, SE corner of Keil and 2nd Sts. Holstein, 75000691

[FR Doc. E7-10154 Filed 5-25-07; 8:45 am]

BILLING CODE 4312-51-P